SURFACE TRANSPORTATION BOARD

[Docket No. AB 310 (Sub-No. 3X)]

Utah Railway Company—Discontinuance of Service Exemption—in Carbon and Emery Counties, Utah

On August 30, 2021, Utah Railway Company (UTAH), a Class III rail carrier, filed a petition under 49 U.S.C. 10502 for exemption from the prior approval requirements of 49 U.S.C. 10903 to discontinue service over a railroad line between approximately milepost 0.25 near Helper, Utah, in Carbon County and approximately milepost 25.3 near Mohrland, Utah, in Emery County, a distance of approximately 25.05 miles (the Line). The Line traverses U.S. Postal Service Zip Codes 84526, 84501, 84527, and 84528. The Line includes stations at Martin, at milepost 0.8, and Wildcat, at milepost 6.2.

The petition indicates that the Line is stub-ended and only serves a single freight customer, Wildcat Midstream Limited Partnership (Wildcat Midstream).¹ (Pet. 5.) UTAH has agreed to lease the segment between milepost 0.2 and milepost 9.0 to Wildcat Midstream for Wildcat Midstream's use as a private industrial side track. (Id. at 3.) Pursuant to that plan, UTAH will continue to move rail cars for Wildcat Midstream over the leased track and will continue to provide common carrier switching service to the interstate rail network over the connecting track between milepost 0.2 and milepost 0.0. (Id.)

¹ UTAH refers to the shipper as Wildcat Midstream Partners, LLC, but in a support letter attached to the petition the shipper calls itself Wildcat Midstream Limited Partnership. (Pet. 3, Ex. E.)

UTAH asserts that, because it is seeking discontinuance rather than an abandonment, the question of whether the Line contains any federally granted rights-of-way is inapplicable. (Id. at 2.) UTAH also states that any documentation related to title in its possession will be made available to those requesting it. (Id.)

As a condition to this exemption, any employee adversely affected by the discontinuance of service shall be protected under Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by December 17, 2021.

Because this is a discontinuance proceeding and not an abandonment, interim trail use/rail banking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.² Persons interested in submitting an OFA must first file a formal expression of intent to file an offer by September 27, 2021, indicating the intent to file an OFA for subsidy and demonstrating that they are preliminarily financially responsible. See 49 CFR 1152.27(c)(1)(i).

² The filing fee for OFAs can be found at 49 CFR 1002.2(f)(25).

All filings in response to this notice must refer to Docket No. AB 310 (Sub-No. 3X) and should be filed with the Surface Transportation Board via e-filing on the Board's website. In addition, a copy of each pleading must be served on UTAH's representative, Justin J. Marks, Clark Hill PLC, 1001 Pennsylvania Ave. NW, Suite 1300 South, Washington, DC 20004. Replies to the petition are due on or before October 7, 2021.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0294. Assistance for the hearing impaired is available through the Federal Relay Service at (800) 877-8339.

Board decisions and notices are available at www.stb.gov.

Decided: September 14, 2021.
By the Board, Scott M. Zimmerman, Acting Director, Office of Proceedings.
Tammy Lowery,
Clearance Clerk.

[FR Doc. 2021-20222 Filed 9-16-21; 8:45 am]

BILLING CODE 4915-01-P